SOCIAL SECURITY ADMINISTRATION

20 CFR Parts 404 and 416

[Regulations Nos. 4 and 16]

RIN 0960-AF40

Supplemental Security Income; Determining Disability for a Child Under Age 18; Correction

AGENCY: Social Security Administration.

ACTION: Final rule and correction to final rule.

SUMMARY: This document contains corrections to the final rules published Monday, September 11, 2000 (65 FR 54747). These rules implement the childhood disability provisions of sections 211 and 212 of Public Law 104-193, the Personal Responsibility and Work Opportunity Reconciliation Act of 1996. These rules also conform to amendments to Public Law 104-193 made by the Balanced Budget Act of 1997, Public Law 105-33. In addition, we are correcting two invalid references shown elsewhere in the Code of Federal Regulations.

DATES: This correction is effective January 2, 2001.

FOR FURTHER INFORMATION CONTACT: Georgia Myers, Regulations Officer, Social Security Administration, 6401 Security Boulevard, Baltimore, MD 21235-6401, regulations@ssa.gov, (410) 965-3632 or TTY (410) 966-5609 for information about these rules. For information on eligibility or filing for benefits, call our national toll-free number, 1-800-772-1213 or TTY 1-800-325-0778, or visit our Internet web site, SSA Online, at: http://www.ssa.gov/

SUPPLEMENTARY INFORMATION:

Background

On February 11, 1997, we published interim final rules with a request for comments to implement the Supplemental Security Income (SSI) childhood disability provisions of sections 211 and 212 of Public Law (Pub. L.) 104-193, the Personal Responsibility and Work Opportunity Reconciliation Act of 1996. On September 11, 2000, we published revised final rules in response to public comments. We also conformed our rules to amendments to Pub. L. 104-193 made by the Balanced Budget Act of 1997, Pub. L. 105-33.

Need for Correction

In our preamble, we found that we had inadvertently published an incorrect Internet address for a report on the effects of the new childhood disability legislation. We are correcting that address as shown below.

Additionally, we are correcting the regulatory language in two places. We found the need to make both an editorial change and a change needed to clarify our original intent. We are also correcting two invalid references shown elsewhere in the Code of Federal Regulations.

Correction of Rule Published September 11, 2000

The publication on September 11, 2000, of the subject final rules, is corrected as follows:

1. On page 54749, column three, the last sentence of the third paragraph under “Actions Since We Published the Interim Final Rules,” is corrected to read as follows:

The report is also available at our public Internet site: http://www.ssa.gov/policy/SSIChildDI/child001.htm.

PART 416—[CORRECTED]

2. On page 54777, column 2, the definition of “The listings” is corrected to read as follows:

§ 416.902 General definitions and terms for this subpart.

* * * * *

The listings means the Listing of Impairments in appendix 1 of subpart P of part 404 of this chapter. When we refer to an impairment(s) that “meets, medically equals, or functionally equals the listings,” we mean that the impairment(s) meets or medically equals the severity of any listing in appendix 1 of subpart P of part 404 of this chapter, as explained in §§ 416.925 and 416.926, or that it functionally equals the severity of the listings, as explained in § 416.926a.

* * * * *

3. On page 54783, column 3, the first sentence of § 416.926a(e)(3)(iv) is corrected to read as follows:

§ 416.926a Functional equivalence for children.

* * * * *

(e) * * *

(iv) For the sixth domain of functioning, “Health and physical well-being,” we may also consider you to have an “extreme” limitation if you are frequently ill because of your impairment(s) or have frequent exacerbations of your impairment(s) that result in significant, documented symptoms or signs substantially in excess of the requirements for showing a “marked” limitation in paragraph (e)(2)(iv) of this section. * * *

* * * * *

Correcting Amendments to the Code of Federal Regulations

List of Subjects

20 CFR Part 404

Administrative practice and procedure, Aged, Alimony, Blind, Disability benefits, Government employees, Income taxes, Insurance, Investigations, Old-age, Survivors and Disability Insurance, Penalties, Railroad retirement, Reporting and recordkeeping requirements, Social security, Travel and transportation expenses, Treaties, Veterans, Vocational rehabilitation.

20 CFR Part 416

Administrative practice and procedure, Alcoholism, Drug abuse, Investigations, Medicaid, Penalties, Reporting and recordkeeping requirements, Supplemental Security Income (SSI), Travel and transportation expenses, Vocational rehabilitation.

Chapter III of title 20 of the Code of Federal Regulations is amended as follows:

PART 404—[AMENDED]

1. The authority citation for subpart P to part 404 continues to read as follows:

Authority: Secs. 202, 205(a), (b), and (d)-(h), 216(i), 221 (a) and (i), 222(c), 223, 225, and 702(a)(5) of the Social Security Act (42 U.S.C. 402, 405 (a), (b), and (d)-(h), 416(i), 421(a) and (i), 422(c), 423, 425, and 902(a)(5)); sec. 211(b), Pub. L. 104-193, 110 Stat. 2105, 2189.

2. Section 404.1520 is amended by revising the last sentence of paragraph (a) to read as follows:

§ 404.1520 Evaluation of disability in general.

(a) * * * Once you have been found entitled to disability benefits, we follow a somewhat different order of evaluation to determine whether your entitlement continues, as explained in § 404.1594(f).

* * * * *

PART 416—[AMENDED]

3. The authority citation for subpart I to part 416 continues to read as follows:

Authority: Secs. 702(a)(5), 1611, 1614, 1619, 1631(a), (c), and (d)(1), and 1633 of the Social Security Act (42 U.S.C. 902(a)(5), 1382, 1382c, 1382h, 1383(a), (c), and (d)(1), and 1383b); secs. 4(c) and 5, 6(c)-(e), 14(a), and 15, Pub. L. 98-460, 98 Stat. 1794, 1801, 1802, and 1808 (42 U.S.C. 421 note, 423 note, 1382h note).

4. Section 416.920 is amended by revising the last sentence of paragraph (a) to read as follows:

§ 416.920 Evaluation of disability of adults, in general.

(a) * * * Once you have been found eligible for Supplemental Security Income benefits based on disability, we follow a somewhat different order of evaluation to determine whether your eligibility continues, as explained in § 416.994(b)(5).

* * * * *

Dated: December 7, 2000.
Georgia E. Myers,
Regulations Officer, Social Security Administration.

[FR Doc. 00-32379 Filed 12-20-00; 8:45 am]

BILLING CODE 4191-02-U